ENVIRONMENTAL PROTECTION AGENCY

40 CFR Part 712

[OPPT-2002-0061; FRL-7306-7]

Preliminary Assessment Information Reporting; Addition of Certain Chemicals

AGENCY: Environmental Protection Agency (EPA).

ACTION: Final rule.

SUMMARY: This final rule addresses the request of the Toxic Substances Control Act (TSCA) Interagency Testing Committee (ITC) in its 48th Report, as modified in its 50th and 51st ITC Reports, by adding benzenamine, 3-chloro-2,6-dinitro-N,N-dipropyl-4-(trifluoromethyl)- to the TSCA section 8(a) Preliminary Assessment Information Reporting (PAIR) rule. It also addresses the request of the ITC in its 50th Report by adding stannane, dimethylbis[(1-oxoneodecyl)oxy]-; benzene, 1,3,5-tribromo-2-(2-propenyloxy)-; and 1-triazene, 1,3-diphenyl- to the PAIR rule. Finally, it addresses the request of the ITC in its 51st Report by adding 43 vanadium compounds to the PAIR rule. This PAIR rule will require manufacturers (including importers) of these 47 Chemical Abstract Service (CAS)-numbered chemicals added to the ITC's TSCA section 4(e) Priority Testing List to submit certain production, importation, use, and exposure-related information to EPA.

DATES: This final rule is effective on July 11, 2003.

Any person who believes that TSCA section 8(a) reporting required by this rule is not warranted, should promptly submit to EPA on or before June 25, 2003, detailed reasons for that belief.

See Unit II.D. of the SUPPLEMENTARY INFORMATION concerning the submission date for those manufacturers required to submit PAIR Forms.

ADDRESSES: Comments may be submitted electronically, by mail, or through hand delivery/courier. Follow the detailed instructions as provided in Unit I. of the SUPPLEMENTARY INFORMATION.

FOR FURTHER INFORMATION CONTACT: For general information contact: Barbara Cunningham, Director, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Gerry Brown, Chemical Control Division (7405M), Office of Pollution Prevention and Toxics, Environmental Protection Agency, 1200 Pennsylvania Ave., NW., Washington, DC 20460-0001; telephone number: (202) 564-4780; fax number: (202) 564-4765; e-mail address: ccd.citb@epa.gov.

SUPPLEMENTARY INFORMATION:

I. General Information

A. Does this Action Apply to Me?

You may be potentially affected by this action if you manufacture (defined by statute to include import) any of the chemical substances that are listed in § 712.30(d) of the regulatory text portion of this document. Entities potentially affected by this action may include, but are not limited to:

• Chemical manufacturers (including importers), (NAICS 325, 32411), e.g., persons who manufacture (defined by statute to include import) one or more of the subject chemical substances.

This listing is not intended to be exhaustive, but rather provides a guide for readers regarding entities likely to be affected by this action. The North American Industrial Classification System (NAICS) codes have been provided to assist you and others in determining whether this action might apply to certain entities. If you have any questions regarding the applicability of this action to a particular entity, consult the technical person listed under FOR FURTHER INFORMATION CONTACT.

B. How Can I Get Copies of this Document and Other Related Information?

1. Docket. EPA has established an official public docket for this action under docket identification (ID) number OPPT-2002-0061. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. A frequently updated electronic version of 40 CFR part 712 is available at http://www.access.gpo.gov/nara/cfr/cfrhtml_00/Title_40/40cfr712_00.html, a beta site currently under development.

Copies of the PAIR Form are also available electronically from the Chemical Testing and Information Branch Home Page on the Internet at http://www.epa.gov/opptintr/chemtest/pairform.pdf .

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. Once in the system, select “search,” and then key in docket ID number OPPT-2002-0061. The system is an “anonymous access” system, which means EPA will not know your identity, e-mail address, or other contact information unless you provide it in the body of your comment.

ii. E-mail. Comments may be sent by e-mail to oppt.ncic@epa.gov, Attention: Docket ID Number OPPT-2002-0061. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Document Control Office (7407M), Office of Pollution Prevention and Toxics (OPPT), Environmental Protection Agency, 1200 Pennsylvania Ave., NW., Washington, DC 20460-0001.

3. By hand delivery or courier. Deliver your comments to: OPPT Document Control Office (DCO) in EPA East Bldg., Rm. 6428, 1201 Constitution Ave., NW., Washington, DC. Attention: Docket ID Number OPPT-2002-0061. The DCO is open from 8 a.m. to 4 p.m., Monday through Friday, excluding legal holidays. The telephone number for the DCO is (202) 564-8930.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the technical person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve this final rule or collection activity.

7. Make sure to submit your comments by the deadline in this document.

8. To ensure proper receipt by EPA, be sure to identify the docket ID number assigned to this action in the subject line on the first page of your response. You may also provide the name, date, and Federal Register citation.

II. Background

A. What Action is the Agency Taking?

EPA is issuing a final TSCA section 8(a) PAIR rule which will require manufacturers (including importers) of 47 CAS-numbered chemicals added to the ITC's TSCA section 4(e) Priority Testing List to submit production and exposure reports. The regulatory text of this rule lists the 47 chemicals that are being added to the PAIR rule.

B. What is the Agency's Authority?

EPA promulgated the PAIR rule in 40 CFR part 712 under TSCA section 8(a) (15 U.S.C. 2607(a)). This model TSCA section 8(a) rule establishes standard reporting requirements for manufacturers (including importers) of the chemicals listed in the rule at § 712.30. These entities are required to submit a one-time report on general production/importation volume, end use, and exposure-related information using the PAIR Form entitled Manufacturer's Report-Preliminary Assessment Information (EPA Form No. 7710-35). EPA uses this model section 8(a) rule to quickly gather current information on chemicals.

This model rule provides for the automatic addition of TSCA section 4(e) Priority Testing List chemicals. Whenever EPA announces the receipt of an ITC report, EPA may, at the same time without providing notice and opportunity for public comment, amend the model information-gathering rule by adding the recommended (or designated) chemicals. The amendment adding these chemicals to the PAIR rule is effective July 11, 2003.

C. What Chemicals are to be Added ?

In this document, EPA is adding 47 chemicals to the TSCA section 8(a) PAIR rule. This document addresses the request of the ITC in its 48th Report (Ref. 1), as modified in its 50th ITC Report (Ref. 2) and 51st ITC Report (Ref. 3), by adding benzenamine, 3-chloro-2,6-dinitro-N,N-dipropyl-4-(trifluoromethyl)- (CAS No. 29091-20-1) to the PAIR rule.This document also addresses the request of the 50th ITC Report by adding stannane, dimethylbis[(1-oxoneodecyl)oxy]- (CAS No. 68928-76-7); benzene, 1,3,5-tribromo-2-(2-propenyloxy)- (CAS No. 3278-89-5); and 1-triazene, 1,3-diphenyl- (CAS No.136-35-6) to the PAIR rule. Finally, this document addresses the request of the 51st ITC Report by adding 43 vanadium compounds which are listed in the amendment to § 712.30(e) of this document.

D. Who Must Report Under this PAIR Rule?

All persons who manufactured (defined by statute to include import) the chemicals identified in the regulatory text of this document during their latest complete corporate fiscal year must submit a PAIR Form (EPA Form No. 7710-35) for each site at which they manufactured or imported a named substance. A separate form must be completed for each substance and submitted to the Agency as specified in § 712.28 no later than September 9, 2003. Persons who have previously and voluntarily submitted a PAIR Form to the ITC or EPA may be able to submit a copy of the original report to EPA or to notify EPA by letter of their desire to have this voluntary submission accepted in lieu of a current data submission. See § 712.30(a)(3).

Details of the PAIR reporting requirements, including the basis for exemptions, are provided in 40 CFR part 712. Copies of the PAIR Form are available from the Environmental Assistance Division at the address listed under FOR FURTHER INFORMATION CONTACT. Copies of the PAIR Form are also available electronically from the Chemical Testing and Information Branch Home Page on the Internet at http://www.epa.gov/opptintr/chemtest/pairform.pdf .

E. How is a Chemical Substances Removed From the PAIR Rule?

Any person who believes that section 8(a) reporting required by this rule is not warranted, should promptly submit to EPA on or before June 25, 2003, detailed reasons for that belief. EPA, in its discretion, may remove the substance from this rule (see § 712.30(c)). When withdrawing a chemical from the PAIR rule, EPA will publish a final rule amending the PAIR rule in the Federal Register.

F. References

The following documents constitute the public record for this rule under docket ID number OPPT-2002-0061.

1. ITC. 2001. Forty-Eighth Report of the ITC. Federal Register (66 FR 51276, October 5, 2001) (FRL-6786-7). Available online at http://www.epa.gov/fedrgstr/.

2. ITC. 2002. Fiftieth Report of the ITC. Federal Register (67 FR 49530, July 30, 2002) (FRL-7183-7). Available online at http://www.epa.gov/fedrgstr/.

3. ITC. 2003. Fifty-first Report of the ITC. Federal Register (68 FR 8976, February 26,2003) (FRL-7183-7). Available online at http://www.epa.gov/fedrgstr/.

4. EPA. 2003. Economic Analysis for the Addition of 47 Chemical Abstract Service (CAS)-numbered Chemicals Requested to be added to EPA's Preliminary Assessment Information Reporting (PAIR) Rule in the 48th, 50th, and 51st Reports of the TSCA Interagency Testing Committee. April 18, 2003.

G. Why is this Action Being Issued as a Final Rule?

EPA is publishing this action as a final rule without prior notice and an opportunity to comment because the Agency believes that providing notice and an opportunity to comment is unnecessary. As discussed in Unit III., whenever EPA announces the receipt of an ITC report, EPA may, at the same time and without providing notice and opportunity for public comment, amend the model information-gathering rule by adding the recommended (or designated) chemicals. EPA finds, therefore, that there is “good cause” under section 553(b)(3)(B) of the Administrative Procedure Act (APA) (5 U.S.C. 553 (b)(3)(B)) to make these amendments without prior notice and comment.

H. Economic Analysis

The economic analysis for the addition of the 47 chemicals to the TSCA section 8(a) PAIR rule is entitled, “Economic Analysis for the Addition of 47 Chemical Abstract Service (CAS)-numbered Chemicals Requested to be added to EPA's Preliminary Assessment Information Reporting (PAIR) Rule in the 48th, 50th, and 51st Reports of the TSCA Interagency Testing Committee” (Ref. 4). Seven of the 47 chemicals were located in EPA's 1998 Chemical Update System (CUS) utilizing the ITC-supplied CAS numbers, yielding 6 companies producing these chemicals at 7 sites. Because the threshold for reporting to CUS under the Inventory Update Rule is 10,000 lbs., and the threshold for PAIR reporting is 500 kg (1,100 lbs.), and because there is no requirement that inorganic chemicals be reported to CUS (the majority of the vanadium compounds are inorganic), EPA assumed that one manufacturer exists per chemical to account for the possibility that there may be manufacturers producing PAIR-reportable amounts that weren't captured by CUS. But EPA has no way of ascertaining this, a fact which highlights the need for PAIR reporting on these chemicals. Given the assumptions in this unit, the costs and burden associated with this rule are estimated in the Economic Analysis (Ref. 4) to be the following:

Reporting Costs (dollars)

47 reports estimated at [cost] per report = $1465.88

Total Cost = $61537.12

Mean cost per site/firm = $61537.12/47 sites = $1465.88

Reporting Burden (hours)

Rule familiarization: 7 hours/site x 47 sites =329 hours

Reporting:1001.3 hours

Total burden hours = 1330.3 hours

Average burden per site/firm = 1330.3 hours/37 sites = 28.3 hours/site

EPA Costs (dollars)

It is estimated that the annual cost to the Federal Government will be $10,226.11 (47 reports x $217.58), plus 0.0176 Full Time Equivalent Employees (FTEs). At an estimated $91,873.60 per FTE, the total of 0.1186 FTEs will cost EPA $10,898.95 in salaries, bringing the total costs to the Federal Government to $21,125.06 (i.e., $10,226.11 + $10,898.95) (Ref. 4).

III. Statutory and Executive Order Reviews

A. Executive Order 12866: Regulatory Planning and Review

The Office of Management and Budget (OMB) has exempted actions under TSCA section 8(a) related to the PAIR rule from the requirements of Executive Order 12866, entitled Regulatory Planning and Review (58 FR 51735, October 4, 1993).

B. Paperwork Reduction Act

Pursuant to the Paperwork Reduction Act (PRA) (44 U.S.C. 3501 et seq.), an Agency may not conduct or sponsor, and a person is not required to respond to, a collection of information that is subject to approval under the PRA unless it displays a currently valid OMB control number. The OMB control numbers for EPA's regulations, after appearing in the preamble of the final rule, are listed in 40 CFR part 9, and included on the related collection instrument. The information collection activities related to this action have already been approved by OMB, under OMB control number 2070-0054 (EPA ICR No. 586) for PAIR reporting. This action does not impose any burdens requiring additional OMB approval. The public reporting burden for this collection of information is estimated to be 1330.3 hours (Ref. 4). Of that total, an estimated 329 hours are spent in an initial review of the rule, and the remaining 1001.3 hours are associated with actual reporting activities (Ref. 4). Because this rule does not contain any new information collection activities, additional review and approval of these activities by OMB under the PRA is not necessary.

C. Regulatory Flexibility Act

Under the Regulatory Flexibility Act (RFA) and the Small Business Enforcement Fairness Act (SBREFA), EPA is required to consider whether a regulatory action will have a significant adverse impact on small entities. Both the RFA and SBREFA require EPA to determine whether a rulemaking may result in “significant economic impact on requirements of the rule on a substantial number of small entities,” and if so, to tailor the requirements of the rule to mitigate such impacts, while still maintaining a high level of environmental protection.

The small business size standards promulgated by the Small Business Administration (SBA) (61 FR 3280, 3289-3291, January 31, 1996) for chemical manufacturers are based solely on the number of employees, with a base threshold of 1,000 employees for the ultimate corporate parent, under which all businesses are considered small. Of the 47 businesses assumed to be affected by this rule, none meet this definition of small business. Thus, EPA has determined that this rule will not impose a significant impact on a substantial number of small entities. Information relating to this EPA determination is included in the docket for this rule (OPPT-2002-0061). Any comments regarding the economic impacts that this action imposes on small entities should be submitted to the Agency at any time after June 11, 2003 using the methods discussed in Unit I.C.

D. Unfunded Mandates Reform Act

Pursuant to Title II of the Unfunded Mandates Reform Act of 1995 (UMRA), Public Law 104-4, EPA has determined that this rule does not contain a Federal mandate that may result in expenditures of $100 million or more for State, local, and tribal governments, in the aggregate, or the private sector in any one year. In addition, EPA has determined that this rule will not significantly or uniquely affect small governments. Accordingly, the rule is not subject to the requirements of UMRA sections 202, 203, 204, or 205.

E. Executive Order 13132: Federalism

This action will not have a substantial direct effect on States, on the relationship between the national government and the States, or on the distribution of power and responsibilities among the various levels of government, as specified in Executive Order 13132, entitled Federalism (64 FR 43255, August 10, 1999).

F. Executive Order 13175: Consultation and Coordination with Indian Tribal Governments

Based on EPA's experience with past TSCA section 8(a) rulemakings, State, local, and tribal governments have not been impacted by these rulemakings, and EPA does not have any reasons to believe that any State, local, or tribal government will be impacted by this rulemaking. As a result, this action is not subject to the requirement for prior consultation with Indian tribal governments as specified in Executive Order 13175, entitled Consultation and Coordination with Indian Tribal Governments (65 FR 67249, November 6, 2000).

G. Executive Order 13045: Protection of Children from Environmental Health Risks and Safety Risks

Executive Order 13045, entitled Protection of Children from Environmental Health Risks and Safety Risks (52 FR 19855, April 23, 1997), does not apply to this rule, because it is not “economically significant” as defined under Executive Order 12866, and does not concern an environmental health or safety risk that may have a disproportionate effect on children. This rule requires the reporting of production, importation, use, and exposure-related information to EPA by manufacturers (including importers) of certain chemicals requested by the ITC to be added to the PAIR rule in its 48th ITC Report (Ref. 1), in its 50th ITC Report (Ref. 2), and its 51st ITC Report (Ref. 3).

H. Executive Order 13211: Actions that Significantly Affect Energy Supply, Distribution, or Use

This rule is not subject to Executive Order 13211, entitled Actions that Significantly Affect Energy Supply, Distribution, or Use (66 FR 28355, May 22, 2001), because this action is not expected to affect energy supply, distribution, or use.

I. National Technology Transfer and Advancement Act

This action does not involve any technical standards that would require Agency consideration of voluntary consensus standards pursuant to section 12(d) of the National Technology Transfer and Advancement Act of 1995 (NTTAA), Public Law 104-113, section 12(d) (15 U.S.C. 272 note). Section 12(d) of NTTAA directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. EPA invites public comment on the Agency's determination that this regulatory action does not require the consideration of voluntary consensus standards.

J. Executive Order 12898: Federal Actions to Address Environmental Justice in Minority Populations and Low-Income Populations

This action does not involve special considerations of environmental justice-related issues pursuant to Executive Order 12898, entitled Federal Actions to Address Environmental Justice in Minority Populations and Low-Income Populations (59 FR 7629, February 16, 1994).

K. Executive Order 12630: Governmental Actions and Interference with Constitutionally Protected Property Rights

EPA has complied with Executive Order 12630, entitled Governmental Actions and Interference with Constitutionally Protected Property Rights (53 FR 8859, March 15, 1988), by examining the takings implications of this rule in accordance with the “Attorney General's Supplemental Guidelines for the Evaluation of Risk and Avoidance of Unanticipated Takings” issued under the Executive order.

L. Executive Order 12988: Civil Justice Reform

In issuing this rule, EPA has taken the necessary steps to eliminate drafting errors and ambiguity, minimize potential litigation, and provide a clear legal standard for affected conduct, as required by section 3 of Executive Order 12988, entitled Civil Justice Reform(61 FR 4729, February 7, 1996).

M. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Part 712

Environmental protection, Chemicals, Hazardous substances, Health and safety, Reporting and recordkeeping requirements.

Dated: June 3, 2003.
Charles M. Auer,
Director, Office of Pollution Prevention and Toxics.

Therefore, 40 CFR chapter I is amended as follows:

PART 712—[AMENDED]

1. The authority citation for part 712 continues to read as follows:

Authority: 15 U.S.C. 2607(a).

2. In § 712.30, the table in paragraph (d) is amended by adding the chemicals: “Benzenamine, 3-chloro-2,6-dinitro-N,N-dipropyl-4-(trifluoromethyl)-;” “stannane, dimethylbis[(1-oxoneodecyl)oxy]-;” “benzene, 1,3,5-tribromo-2-(2-propenyloxy)-;” and “1-triazene, 1,3-diphenyl-” listed in ascending CAS number order to read as follows:

§ 712.30 Chemical lists and reporting periods.

* * * * *

(d) * * *

CAS No. | Substance | Effective date | Reporting date
* * * * * * *
136-35-6 | 1-Triazene, 1,3-diphenyl- | July 11, 2003 | September 9, 2003
* * * * * * *
3278-89-5 | Benzene, 1,3,5-tribromo-2-(2-propenyloxy)- | July 11, 2003 | September 9, 2003
* * * * * * *
29091-20-1 | Benzenamine, 3-chloro-2,6-dinitro-N,N-dipropyl-4-(trifluoromethyl)- | July 11, 2003 | September 9, 2003
* * * * * * *
68928-76-7 | Stannane, dimethylbis[(1-oxoneodecyl)oxy]- | July 11, 2003 | September 9, 2003
* * * * * * *

* * * * *

3. In § 712.30, the table in paragraph (e) is amended by adding in alphabetical order the category “Vanadium Compounds” to read as follows:

§ 712.30 Chemical lists and reporting periods.

* * * * *

(e) * * *

CAS No. | Substance | Effective date | Reporting date
* * * * * * *
Vanadium compounds: |  |  |
1314-34-7 | Vanadium oxide (V2O3) [Vanadium trioxide] | July 11, 2003 | September 9, 2003
1314-62-1 | Vanadium oxide (V2O5) [Vanadium pentoxide] | July 11, 2003 | September 9, 2003
1686-22-2 | Vanadium, triethoxyoxo-, (T-4)- [Triethyl orthovanadate] | July 11, 2003 | September 9, 2003
3153-26-2 | Vanadium, oxobis (2,4-pentanedionato-.kappa.O,.kappa.O')-, (SP-5-21)- | July 11, 2003 | September 9, 2003
5588-84-1 | Vanadium, oxotris(2-propanolato)-, (T-4)- [Vanadium triisopropoxide oxide] | July 11, 2003 | September 9, 2003
7440-62-2 | Vanadium | July 11, 2003 | September 9, 2003
7632-51-1 | Vanadium chloride (VCl4), (T-4)- [Vanadium tetrachloride] | July 11, 2003 | September 9, 2003
7718-98-1 | Vanadium chloride (VCl3) [Vanadium trichloride] | July 11, 2003 | September 9, 2003
7727-18-6 | Vanadium, trichlorooxo-, (T-4)- [Vanadium oxytrichloride] | July 11, 2003 | September 9, 2003
7803-55-6 | Vanadate (VO31-), ammonium [Ammonium metavanadate] | July 11, 2003 | September 9, 2003
10049-16-8 | Vanadium fluoride (VF4) [Vanadium tetrafluoride] | July 11, 2003 | September 9, 2003
10213-09-9 | Vanadium, dichlorooxo- [Vanadyl dichloride] | July 11, 2003 | September 9, 2003
10580-52-6 | Vanadium chloride (VCl2) [Vanadium dichloride] | July 11, 2003 | September 9, 2003
11099-11-9 | Vanadium oxide [Polyvanadic acid] | July 11, 2003 | September 9, 2003
11115-67-6 | Ammonium vanadium oxide | July 11, 2003 | September 9, 2003
11130-21-5 | Vanadium carbide | July 11, 2003 | September 9, 2003
12007-37-3 | Vanadium boride (VB2) | July 11, 2003 | September 9, 2003
12035-98-2 | Vanadium oxide (VO) | July 11, 2003 | September 9, 2003
12036-21-4 | Vanadium oxide (VO2) | July 11, 2003 | September 9, 2003
12070-10-9 | Vanadium carbide (VC) | July 11, 2003 | September 9, 2003
12083-48-6 | Vanadium, dichlorobis (.eta.5-2,4-cyclopentadien-1-yl)- | July 11, 2003 | September 9, 2003
12166-27-7 | Vanadium sulfide (VS) | July 11, 2003 | September 9, 2003
12439-96-2 | Vanadium, oxo[sulfato(2-)-.kappa.O]-, pentahydrate [Vanadyl sulfate (VOSO4), pentahydrate] | July 11, 2003 | September 9, 2003
12604-58-9 | Vanadium alloy, base, V,C,Fe (Ferrovanadium) | July 11, 2003 | September 9, 2003
13470-26-3 | Vanadium bromide (VBr3) | July 11, 2003 | September 9, 2003
13476-99-8 | Vanadium, tris(2,4-pentanedionato-.kappa.O,.kappa.O')-, (OC-6-11)- [Vanadium tris(acetylacetonate)] | July 11, 2003 | September 9, 2003
13497-94-4 | Silver vanadium oxide (AgVO3) | July 11, 2003 | September 9, 2003
13517-26-5 | Sodium vanadium oxide (Na4V2O7) [Sodium pyrovanadate] | July 11, 2003 | September 9, 2003
13718-26-8 | Vanadate (VO31-), sodium [Sodium metavanadate] | July 11, 2003 | September 9, 2003
13721-39-6 | Sodium vanadium oxide (Na3VO4) [Sodium orthovanadate] | July 11, 2003 | September 9, 2003
13769-43-2 | Vanadate (VO31-), potassium [Potassium metavanadate] | July 11, 2003 | September 9, 2003
13930-88-6 | Vanadium, oxo[29H,31H-phthalocyaninato(2-)-.kappa.N29,.kappa.N30,.kappa.N31,.kappa.N32]-, (SP-5-12)- | July 11, 2003 | September 9, 2003
14059-33-7 | Bismuth vanadium oxide (BiVO4) | July 11, 2003 | September 9, 2003
19120-62-8 | Vanadium, tris(2-methyl-1-propanolato)oxo-, (T-4)- [Isobutyl orthovanadate] | July 11, 2003 | September 9, 2003
24646-85-3 | Vanadium nitride (VN) | July 11, 2003 | September 9, 2003
27774-13-6 | Vanadium, oxo[sulfato(2-)-.kappa.O]- [Vanadyl sulfate] | July 11, 2003 | September 9, 2003
30486-37-4 | Vanadium hydroxide oxide (V(OH)2O) | July 11, 2003 | September 9, 2003
39455-80-6 | Ammonium sodium vanadium oxide | July 11, 2003 | September 9, 2003
53801-77-7 | Bismuth vanadium oxide | July 11, 2003 | September 9, 2003
65232-89-5 | Vanadium hydroxide oxide phosphate | July 11, 2003 | September 9, 2003
68130-18-7 | Vanadium hydroxide oxide phosphate (V6(OH)3O3(PO4)7) | July 11, 2003 | September 9, 2003
68815-09-8 | Naphthenic acids, vanadium salts | July 11, 2003 | September 9, 2003
68990-29-4 | Balsams, copaiba, sulfurized, vanadium salts | July 11, 2003 | September 9, 2003

* * * * *

[FR Doc. 03-14749 Filed 6-10-03; 8:45 am]

BILLING CODE 6560-50-S